DEPARTMENT OF COMMERCE

International Trade Administration

[A-570-924]

Polyethylene Terephthalate Film, Sheet, and Strip From the People's Republic of China: Extension of Preliminary Results of Antidumping Duty Administrative Review

AGENCY: Import Administration, International Trade Administration, Department of Commerce.

SUMMARY: The Department of Commerce (“the Department”) is extending the time limit for the preliminary results of the administrative review of polyethylene terephthalate film, sheet, and strip (“PET film”) from the People's Republic of China (“PRC”). This review covers the period November 1, 2009, through October 31, 2010.

DATES: Effective Date: July 18, 2011.

FOR FURTHER INFORMATION CONTACT: Thomas Martin or Jonathan Hill, AD/CVD Operations, Office 4, Import Administration, International Trade Administration, U.S. Department of Commerce, 14th Street and Constitution Avenue, NW., Washington, DC 20230; telephone: (202) 482-3936 or (202) 482-3518, respectively.

Background

On December 28, 2010, the Department published in the Federal Register a notice of initiation of the second administrative review of the antidumping duty order on PET film from the PRC. See Initiation of Antidumping and Countervailing Duty Administrative Reviews and Requests for Revocation in Part, 75 FR 81565 (December 28, 2010). The preliminary results of this review are currently due no later than August 2, 2011.

Statutory Time Limits

In antidumping duty administrative reviews, section 751(a)(3)(A) of the Tariff Act of 1930, as amended (“the Act”), requires the Department to issue its preliminary results within 245 days after the last day of the anniversary month of an order for which a review is requested and to issue its final results within 120 days after the date on which the preliminary results are published. However, if it is not practicable to complete the review within these time periods, section 751(a)(3)(A) of the Act allows the Department to extend the time limit for the preliminary results to a maximum of 365 days after the last day of the anniversary month.

Extension of Time Limit for Preliminary Results of Review

The Department has determined that it is not practicable to complete the instant administrative review within the original time limits established by section 751(a)(3)(A) of the Act because we require additional time to evaluate the most appropriate surrogate values on the administrative record to use in this segment of the proceeding. Therefore, in accordance with section 751(a)(3)(A) of the Act, the Department is extending the time period for completing the preliminary results of the instant administrative review by 60 days. The new deadline is October 3, 2011.¹ The deadline for the final results of this review continues to be 120 days after the publication of the preliminary results.

¹ The 60 day extension falls on October 1, 2011 which is a Saturday. It is the Department's practice to issue a determination on the next business day when the statutory deadline falls on a weekend, federal holiday, or any other day when the Department is closed. See Notice of Clarification: Application of “Next Business Day” Rule for Administrative Determination Deadlines Pursuant to the Tariff Act of 1930, as Amended, 70 FR 24533 (May 10, 2005). Accordingly, the deadline for completion of the preliminary results is October 3, 2011.

We are issuing and publishing this notice in accordance with sections 751(a)(3)(A) and 777(i) of the Act.

Dated: July 9, 2011.
Christian Marsh
Deputy Assistant Secretary for Antidumping and Countervailing Duty Operations.

[FR Doc. 2011-18041 Filed 7-15-11; 8:45 am]

BILLING CODE 3510-DS-P